DEPARTMENT OF COMMERCE

National Oceanic and Atmospheric Administration

50 CFR Part 660

[Docket No. 221206-0261]

RIN 0648-BM50

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow fishing vessels to access more abundant groundfish stocks while protecting rebuilding stocks.

DATES: This final rule is effective August 7, 2023.

ADDRESSES: This rule is accessible via the internet at the Office of the Federal Register website at https://www.federalregister.gov. Background information and documents are available at the Pacific Fishery Management Council's website at https://www.pcouncil.org/.

FOR FURTHER INFORMATION CONTACT: Dr. Sean Matson, phone: 206-526-6187 or email: sean.matson@noaa.gov.

SUPPLEMENTARY INFORMATION:

Background

The Pacific Coast Groundfish Fishery Management Plan (PCGFMP) and its implementing regulations at title 50 in the Code of Federal Regulations (CFR), part 660, subparts C through G, regulate fishing for over 90 species of groundfish seaward of Washington, Oregon, and California. The Pacific Fishery Management Council (Council) develops groundfish harvest specifications and management measures for 2-year periods (biennia). NMFS published the final rule to implement harvest specifications and management measures for the 2023-2024 biennium for most species managed under the PCGFMP on December 16, 2022 (87 FR 77007). The management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its June 2023 meeting, the Council recommended modifying fixed gear trip limits for limited entry (LE) and open access (OA) fisheries, for bocaccio rockfish (hereafter bocaccio), south of 40°10′ N latitude (lat.), and minimum length limits for LE and OA lingcod south of 42° N lat., after updated information regarding projected catch and attainment became available, as well as requests from industry. Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends management measures (e.g., trip limits, area closures, and bag limits) that are meant to control catch so as not to exceed the harvest specifications. The harvest specifications and management measures developed for the 2023-2024 biennium used data through the 2021 fishing year. Each of the adjustments to management measures discussed below are based on updated fisheries information that was unavailable when the analysis for the current harvest specifications was completed. As new fisheries data becomes available, adjustments to management measures are projected so as to help harvesters achieve but not exceed the harvest limits.

Bocaccio South of 40°10′ N Latitude

Bocaccio on the West Coast is managed as a separate stock south of 40°10′ N lat., while bocaccio north of 40°10′ N lat. is managed as part of the minor shelf rockfish north of 40°10′ N lat. Bocaccio south of 40°10′ N lat., the subject of this action, is caught both commercially and recreationally, with commercial vessels harvesting it with both trawl and fixed gear (longlines and pots/traps) in the bottom trawl, nearshore, limited entry, and open access fixed gear fisheries. It is caught in shelf and nearshore areas, often together with chilipepper rockfish. The 2023 ACL and harvest guideline for bocaccio south of 40°10′ N lat. are 1,842 metric tons (mt), and 1,793.9 mt, respectively.

At the June 2023 Council meeting, the California Department of Fish and Wildlife (CDFW) received a request from industry to adjust bocaccio bimonthly landing accumulation (“trip”) limits for the open access (OA) fisheries south of 40°10′ N. lat.; to increase the trip limit from 4,000 pounds (1,814 kg) per period (2 month) to 6,000 pounds (2,721 kg) per period. CDFW analyzed the request, as well as increasing the LE trip limits for bocaccio, and recommended the increases to Council. The Council reviewed the analytical documents drafted by the CDFW, as well as the Groundfish Management Team (GMT), and the Groundfish Advisory Subpanel (GAP), to inform their discussion and decision making under the inseason adjustment agenda item.

The intent of increasing trip limits is to increase harvest opportunities, by reducing discard, for vessels catching bocaccio, while targeting chilipepper rockfish. The new OA trip limits would match existing chilipepper trip limits, which are reported to currently be caught in equal amounts to bocaccio. To evaluate potential increases to bocaccio trip limits for both the OA and LE fisheries, the CDFW made model-based catch projections under current regulations and alternative bocaccio trip limits, including the limits ultimately recommended by the Council, beginning on July 1 through the remainder of 2023. Table 1 shows the projected bocaccio landings by fishery, relevant bocaccio allocations, and the projected attainment as a percentage of the landing target, under both the current trip limits and the Council's recommended adjusted trip limits. These projections were based on the most recent catch information available through June 16, 2023.

Table 1—Projected Landings, Allocation, and Projected Percentage of Bocaccio Attained Through 2023 by Trip Limit and Fishery
Option | Fishery | Trip limit | Projected catch (mt) | Projected sum catch (mt) | Percent attainment 2023 non-trawl share (337.8 mt)
Current regulation | LE South of 40°10′ N lat | 6,000 lb (2,721 kg)/2 months | 16.2 | 51.6 | 15
| OA South of 40°10′ N lat | 4,000 lb (1,814 kg)/2 months | 35.4 |  |
Council-recommended | LE South of 40°10′ N lat | 8,000 lb (3,629 kg)/2 months | 19.6 | 65 | 19
| OA South of 40°10′ N lat | 6,000 lb (2,721 kg)/2 months | 45.4 |  |

As shown in Table 1, under the current trip limits, the model predicts catch of bocaccio will be at 15 percent, or 51.6 mt of the 337.8 mt commercial non-trawl share for LE and OA fisheries combined, south of 40°10′ N lat.; while under the Council-recommended trip limits, attainment would be 19 percent, or 65 mt of the 337.8 mt commercial non-trawl share, for the LE and OA fisheries combined, south of 40°10′ N lat. Under the Council's recommended trip limits, bocaccio attainment is projected to increase by 4 percent in the LE and OA fisheries south of 40°10′ N lat., from 15 to 19 percent. The Council as a matter of practice, consistently maintains trip limits in LE fisheries at a higher level than those of OA, in order to afford a measure of additional opportunity to fishers with LE permits. Thus, in this case, the bocaccio LE trip limits were also recommended to be raised, to maintain a 2,000 lb (907 kg) per 2 months difference between the LE and OA sectors. Raising the LE trip limits for bocaccio to 8,000 lb (3,629 kg) per 2 months also made them equal to the chilipepper rockfish trip limits (which were reported by industry to be caught in approximately equal amounts), south of 34°27′ N lat.; and close to chilipepper limits between 34°27′ N lat. and 40°10′ N lat., currently 10,000 lb (4,536 kg) per 2 months.

Trip limit increases for bocaccio are intended to increase attainment of the non-trawl harvest guideline (HG), and convert regulatory discard into landed catch. The proposed trip limit increases do not change projected impacts to co-occurring rebuilding species compared to the impacts anticipated in the 2023-2024 harvest specifications because the projected impacts to those species assume that the entire bocaccio ACL is harvested. Therefore, the Council recommended and NMFS is implementing, by modifying Table 2 south to part 660, subpart E, and Table 3 south to part 660, subpart F, trip limit changes for the LE and OA fixed gear fisheries south of 40°10′ N lat. as shown above in Table 1. These changes will start with Period 4 (July and August) and remain in place through the end of 2023 and beyond, unless otherwise modified.

Lingcod

For the June 2023 meeting, the GMT received a request to reduce the lingcod minimum total length limit south of 42° N lat. from 24 inches (61 cm) to 22 inches (56 cm), in groundfish fisheries (both trawl and non-trawl), during periods 4 through 6 of 2023, in order to reduce regulatory discards and increase economic opportunity. Industry reported that constraints from copper and quillback rockfishes off California are leading to nearshore participants to seek more opportunity in the live fish market, which prefers fish smaller than the current commercial limit of 24 inches (61 cm). Lingcod is managed with two separate ACLs, north and south of 40°10′ N lat. The 2023 ACL for lingcod south of 40°10′ N lat. is 726 mt. The limit of 24 inches (61 cm) for commercial fisheries south of 42° N lat. has been in place since 1998.

The intended, and most likely impact of this small change to minimum size length is to convert regulatory discards of slightly smaller fish into landings, resulting in a negligible overall change in overall commercial fishing mortality. Additionally, the ACL for lingcod south of 42° N lat. has shown low attainment (mean of 38, coefficient of variation of 35, and maximum of 60 percent, Table 2) over the past 10 years, and it is highly unlikely that the modest reduction to minimum length would have impacts of any conservation concern. Further, 70-90 percent of lingcod south of 40° 10′ N lat. mortality occurs in the California recreational fishery, for which the size limit is already 22 inches (56 cm); thus, impacts of this action will only affect a small fraction of overall lingcod fishing mortality.

Table 2—Commercial, Recreational, and Total Mortality of Lingcod South of 40°10′ N Lat., Along With ACL and ACL Attainment, 2014-2022
Year | Commercial mortality (mt) | Recreational mortality (mt) | Total mortality (mt) ᵃ | ACL (mt) | ACL attainment (percent)
2014 | 76 | 426 | 510 | 1,276 | 40
2015 | 113 | 597 | 718 | 1,205 | 60
2016 | 82 | 593 | 682 | 1,136 | 60
2017 | 89 | 453 | 552 | 1,502 | 37
2018 | 103 | 346 | 457 | 1,373 | 33
2019 | 123 | 269 | 397 | 1,143 | 35
2020 | 88 | 200 | 290 | 977 | 30
2021 | 82 | 228 | 311 | 1,255 | 25
2022 ᵇ | 94 | 226 | 322 | 1,334 | 24
ᵃ Commercial and recreational mortality may not sum up to the total mortality, because the total mortality values also include mortality from research and non-groundfish fisheries.
ᵇ 2022 mortality values are a combination of landings data and a 3-year average discard mortality estimate. Final 2022 discard mortality estimates are not available until Fall 2023.

Table 3—Options for Inseason Action on the Lingcod Size Limit South of 42° N Lat.
Option | Description
Current regulation | The commercial minimum size limit for lingcod is 24 inches (61 cm) total length south of 42° N lat.
Council recommendation | The commercial minimum size limit for lingcod is 22 inches (56 cm) total length south of 42° N lat.

Minimum size limit changes for lingcod are intended to reduce regulatory discards, increase retention, and potentially marginally increase attainment of the non-trawl, and trawl allocations. The proposed size limit reductions do not change projected impacts to co-occurring rebuilding species (yelloweye rockfish) compared to the impacts anticipated in the 2023-2024 harvest specifications, due a projection of yelloweye bycatch levels assuming the entire lingcod allocation is attained, in the harvest specifications analysis.

The Council recommendation reads to lower “the minimum lingcod size limit to 22 inches for commercial fisheries south of 42° N lat.”. Groundfish regulations allow for limited retention of bycatch of lingcod in the commercial pink shrimp fishery, and also specifies a minimum size limit for retention of lingcod (currently of 24 inches (61 cm) total length). However, the Council and ancillary bodies did not discuss making a change to lingcod size limits in the pink shrimp fishery, or other non-groundfish fisheries with incidental groundfish catch at the June 2023 meeting. Thus, no changes to the pink shrimp fishery regulations are implemented within this rule.

Therefore, the Council recommended and NMFS is implementing, by modifying Table 2 North, and South to part 660, subpart E, and Table 3 North, and South to part 660, subpart F, minimum size limit changes for LE and OA lingcod south of 42° N lat. as shown above in Table 3. These changes will start with Period 4 (July and August) and remain in place through the end of 2023 and beyond, unless otherwise modified.

The regulation text is also revised in § 660.60, paragraph (h)(5)(ii)(A)(2)(ii) to read as follows: “South of 42° N lat., for lingcod with the head removed, the minimum size limit is 18 inches (46 cm), which corresponds to 22 inches (56 cm) total length for whole fish” (limited entry fixed gear and open access); and in § 660.60, paragraph (h)(5)(ii)(B)(2)(ii) to read as follows: “The minimum size limit for lingcod South of 42° N lat. is 22 inches (56 cm) total length for whole fish, which corresponds to 18 inches (46 cm) with the head removed” (shorebased IFQ fishery).

Classification

This final rule makes routine inseason adjustments to groundfish fishery management measures, based on the best scientific information available, consistent with the PCGFMP and its implementing regulations.

This action is taken under the authority of 50 CFR 660.60(c) and is exempt from review under Executive Order 12866.

The aggregate data upon which these actions are based, are available for public inspection by contacting Dr. Sean Matson in NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. The adjustments to management measures in this document increase trip limits and decrease size limits for fisheries off California to allow additional economic opportunity while keeping catch within allocations established by the 2023-2024 harvest specifications. The trip limit increases are for the LE and OA sectors for bocaccio south of 40°10′ N lat. Over the year 2023, these changes are projected to potentially increase economic value of the fisheries for bocaccio alone, by $18,519 for LE and $40,565 for OA, as well as reduce regulatory discards in these fisheries. The decreases to minimum length limits for lingcod off California fishery are needed to provide alternative opportunity due to conservation related constraints in the nearshore, in the form of smaller lingcod which are preferred for live markets; and to convert regulatory discards to landed catch. No aspect of this action is controversial, and changes of this nature were anticipated in the final rule for the 2023-2024 harvest specifications and management measures which published on December 16, 2022 (87 FR 77007).

Delaying implementation to allow for public comment would likely reduce the economic benefits to the commercial fishing industry and the businesses that rely on that industry, because it is unlikely the new regulations would publish and could be implemented in time to realize the projected benefits to fishing communities and the resource. A delay in implementation could also contribute to unnecessarily discarded and largely wasted fish, which could otherwise be landed to provide food and revenue, and responsible use of the resource. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect fisheries by increasing opportunity and allowing greater economic benefit. These adjustments were requested by the Council's advisory bodies, as well as members of industry during the Council's June 2023 meeting, and recommended unanimously by the Council. No aspect of this action is controversial, and changes of this nature were anticipated in the biennial harvest specifications and management measures established through a notice and comment rulemaking for 2023-2024 (87 FR 77007).

List of Subjects in 50 CFR Part 660

Fisheries, Fishing, Indian fisheries.

Authority: 16 U.S.C. 1801 et seq., 16 U.S.C. 773 et seq., and 16 U.S.C. 7001 et seq.

Dated: August 1, 2023.
Jennifer M. Wallace,
Acting Director, Office of Sustainable Fisheries, National Marine Fisheries Service.

For the reasons set out in the preamble, 50 CFR part 660 is amended as follows:

PART 660-FISHERIES OFF WEST COAST STATES

1. The authority citation for part 660 continues to read as follows:

Authority: 16 U.S.C. 1801 et seq., 16 U.S.C. 773 et seq., and 16 U.S.C. 7001 et seq.

2. In § 660.60, revise paragraph (h)(5)(ii)(A)(2)(ii) and (h)(5)(ii)(B)(2)(ii) to read as follows:

§ 660.60 Specifications and management measures.

* * * * *

(h) * * *

(5) * * *

(ii) * * *

(A) * * *

(2) * * *

(ii) South of 42° N lat., for lingcod with the head removed, the minimum size limit is 18 inches (46 cm), which corresponds to 22 inches (56 cm) total length for whole fish.

* * * * *

(B) * * *

(2) * * *

(ii) The minimum size limit for lingcod South of 42° N lat. is 22 inches (56 cm) total length for whole fish, which corresponds to 18 inches (46 cm) with the head removed.

* * * * *

3. Revise Table 2 (North) to part 660, subpart E, to read as follows:

BILLING CODE 3510-22-P

4. Revise Table 2 (South) to part 660, subpart E, to read as follows:

5. Revise Table 3 (North) to part 660, subpart F, to read as follows:

6. Revise Table 3 (South) to part 660, subpart F, to read as follows:

[FR Doc. 2023-16720 Filed 8-2-23; 4:15 pm]

BILLING CODE 3510-22-C